FEDERAL COMMUNICATIONS COMMISSION

Sunshine Act Meeting; Open Commission Meeting, Thursday, April 18, 2002

April 11, 2002.

The Federal Communications Commission will hold an Open Meeting on the subjects listed below on Thursday, April 18, 2002, which is scheduled to commence at 9:30 a.m. in Room TW-C305, at 445 12th Street, SW., Washington, DC.

Item No. and Bureau | Subject
1. Consumer and Governmental Affairs | Title: Provision of Improved Telecommunications Relay Services and Speech-to-Speech Services for Individuals with Hearing and Speech Disabilities (CC Docket No. 98-67) and Petition for Clarification of WorldCom, Inc.
| Summary: The Commission will consider issues concerning Internet protocol relay service as it relates to the Interstate Telecommunications Relay Service Fund.
2. Wireline Competition | Title: Rural Health Care Support Mechanism (WC Docket No. 02-60).
| Summary: The Commission will consider a Notice of Proposed Rulemaking concerning the rural health care universal service support mechanism.
3. International | Title: The Establishment of Policies and Service Rules for the Non-Geostationary Satellite Orbit, Fixed Satellite Service in the Ku-Band (IB Docket No. 01-96).
| Summary: The Commission will consider a Report and Order and Further Notice of Proposed Rulemaking to implement sharing among multiple licensees in a new service capable of providing broadband access to the Internet over satellite facilities.
4. International | Title: World Telecommunications Development Conference Report.
| Summary: The International Bureau will report on its role in the ITU World Telecommunications Development Conference, which concluded March 27, 2002.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@apl.com

This meeting can be viewed over George Mason University's Capitol Connection. The Capitol Connection also will carry the meeting live via the Internet. For information on these services call (703) 834-1470 Ext. 10. The audio portion of the meeting will be broadcast live on the Internet via the FCC's Internet audio broadcast page at <http://www.fcc.gov/realaudio/>. Audio and video tapes of this meeting can be purchased from Infocus, 341 Victory Drive, Herndon, VA 20170, telephone (703) 834-1470, Ext. 10; fax number (703) 834-0111.

Federal Communications Commission.
William F. Caton,
Acting Secretary.

[FR Doc. 02-9276 Filed 4-12-02; 11:37 am]

BILLING CODE 6712-01-P